DEPARTMENT OF HOMELAND SECURITY

Coast Guard

33 CFR Part 160

[USCG-2002-11865]

RIN 1625-AA41

Notification of Arrival in U.S. Ports; Correction

AGENCY: Coast Guard, DHS.

ACTION: Correcting amendments.

SUMMARY: This document contains corrections to the final regulations (FR Doc. 03-4408), which were published in the Federal Register of Friday, February 28, 2003, (68 FR 9537). The regulations related to the information reporting requirements for notification of vessel arrival in U.S. ports contained in 33 CFR part 160, subpart C.

DATES: Effective on November 10, 2003.

FOR FURTHER INFORMATION CONTACT: LTJG Kimberly B Andersen, U.S. Coast Guard (G-MPP), at 202-267-2562.

SUPPLEMENTARY INFORMATION:

Background

The final regulations that are the subject of these corrections superseded Subpart C of 33 CFR part 160 on April 1, 2003, and affect persons required to submit Notification of Arrival in U.S. ports.

Need for Correction

As published, the final regulations contain errors that may prove to be misleading and need to be clarified.

List of Subjects in 33 CFR Part 160

Administrative practice and procedure, Harbors, Hazardous Material transportation, Marine safety, Navigation (water), Reporting and recordkeeping requirements, Vessels, Waterways

Accordingly, 33 CFR part 160 is corrected by making the following correcting amendments:

Subpart C—Notification of Arrival in U.S. Ports

1. The authority citation for Part 160 continues to read as follows:

Authority: 33 U.S.C. 1223, 1231; 46 U.S.C. Chapter 701; Department of Homeland Security Delegation 0170.1. Subpart D is also issued under the authority of 33 U.S.C. 125 and 46 U.S.C. 3715.

§ 160.203 [Corrected]

2. In § 160.203(b)(1), immediately preceding the words “vessels entering any port or place in the” add the word “foreign.”

§ 160.206 [Corrected]

3. In § 160.206(d) immediately following the words “estimated arrival” add the words “and departure”.

§ 160.210 [Corrected]

4. In § 160.210(c) immediately preceding the words “vessels 300 or less gross tons operating in the Seventh Coast Guard District” add the word “foreign”.

§ 160.212 [Corrected]

5. In § 160.212, in the table to paragraph (a)(3), in entry (i), under the heading “You must submit an NOA—” remove the words “Before departure but at” and add in their place the word “At”.

Dated: October 17, 2003.
L.L. Hereth,
Acting Assistant Commandant for Marine Safety, Security and Environmental Protection.

[FR Doc. 03-28189 Filed 11-7-03; 8:45 am]

BILLING CODE 4910-15-P